DEPARTMENT OF HEALTH AND HUMAN SERVICES

Centers for Medicare & Medicaid Services

[Document Identifier: CMS-10079 and CMS-R-245]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Hospital Wage Index Occupational Mix Survey and Supporting Regulations in 42 CFR 412.64; Use: Section 304(c) of Public Law 106-554 mandates an occupational mix adjustment to the wage index, requiring the collection of data every 3 years on the occupational mix of employees for each short-term, acute care hospital participating in the Medicare program. The 2007/2008 revised survey will provide for the collection of hospital-specific wages and hours data for a 1-year prospective reporting period (July 1, 2007 through June 30, 2008), additional clarifications to the survey instructions, the elimination of the RN subcategories, some refinements to the definitions for the occupational categories, and the inclusion of additional cost centers that typically provide nursing services. The 2007/2008 Medicare occupational mix survey will be applied beginning with the FY 2010 wage index. Each of the approximately 3,600 inpatient prospective payment system providers participating in the Medicare program will be required to complete the revised Medicare Wage Index Occupational Mix Survey. The revised survey will be forwarded to hospitals through CMS's fiscal intermediaries and will be made available on CMS's Web site. Form Number: CMS-10079 (OMB#: 0938-0907); Frequency: Reporting: Yearly, Biennially and Occasionally; Affected Public: Business or other for-profit and Not-for-profit institutions; Number of Respondents: 3,600; Total Annual Responses: 3,600; Total Annual Hours: 1,728,000.

2. Type of Information Collection Request: Extension of a currently approved collection; Title of Information Collection: Medicare and Medicaid Programs OASIS Collection Requirements as Part of the Conditions of Participation for Home Health Agencies and Supporting Regulations in 42 CFR 484.55, 484.205, 484.245, 484.250; Use: The Outcome and Assessment Information Set (OASIS) is a requirement for one of the Conditions of Participation (CoPs) that Home Health Agencies (HHAs) must meet in order to participate in the Medicare program. Specifically, the CoP at § 484.55 requires that each patient receive from an HHA a patient-specific, comprehensive assessment that identifies a patient's continuing need for home care and meets the patient's medical, nursing, rehabilitative, social and discharge planning needs. In addition, the regulation requires that as part of the comprehensive assessment, HHAs use a standard core assessment data set, the OASIS, to evaluate non-maternity patients. The data collected using OASIS is used for three main purposes: Assessing and improving the quality of care provided by an HHA, submitting and paying claims for Medicare home health services, and surveying the HHAs in accordance with Section 1891 of the Social Security Act (the Act). Frequency: Recordkeeping and Reporting—upon patient assessment; Affected Public: Business or other for-profit and Not-for-profit institutions; Number of Respondents: 8,277; Total Annual Responses: 10,105,827; Total Annual Hours: 11,977,601.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on April 3, 2007.

CMS, Office of Strategic Operations and Regulatory Affairs, Division of Regulations Development—C, Attention: Bonnie L Harkless, Room C4-26-05, 7500 Security Boulevard, Baltimore, Maryland 21244-1850.

Dated: January 26, 2007.
Michelle Shortt,
Director, Regulations Development Group, Office of Strategic Operations and Regulatory Affairs.

[FR Doc. E7-1686 Filed 2-1-07; 8:45 am]

BILLING CODE 4120-01-P